DEPARTMENT OF THE INTERIOR

Office of the Secretary

[166D1114PD DPD000000.000000 DS62100000 DX.62101]

Renewal of Information Collection for: OMB Control Number—1093-0005—Payments in Lieu of Taxes (PILT) Act, Statement of Federal Lands Payments, (43 CFR 44)

AGENCY: Office of the Secretary, Office of Budget, Department of the Interior.

ACTION: Notice and request for comments.

SUMMARY: In compliance with the Paperwork Reduction Act of 1995, the Office of Budget, Office of the Secretary, and Department of the Interior (DOI), announces the proposed extension of a public information collection required by the Payments in Lieu of Taxes (PILT) Act and seeks public comments on the provisions thereof. In compliance with the Paperwork Reduction Act of 1995, the Office of Budget has submitted a request for renewal of approval of this information collection to the Office of Management and Budget (OMB), and requests public comments on this submission.

DATES: OMB has up to 60 days to approve or disapprove the information collection request, but may respond after 30 days; therefore, public comments should be submitted to OMB by January 14, 2016, in order to be assured of consideration.

ADDRESSES: Send your written comments by facsimile (202) 395-5806 or email (OIRA_Submission@omb.eop.gov) to the Office of Information and Regulatory Affairs, Office of Management and Budget, Attention: Department of the Interior Desk Officer (1093-0005). Also, please send a copy of your comments to the U.S. Department of the Interior, Office of the Secretary, Office of Budget, Attn. Dionna Kiernan, 1849 C St. NW., MS 7413 MIB, Washington, DC 20240. Send any faxed comments to (202) 219-2849, Attn. Dionna Kiernan. Comments may also be emailed to dionna_kiernan@ios.doi.gov.

FOR FURTHER INFORMATION CONTACT: Requests for additional information or copies of the information collection instrument should be directed to the U.S. Department of the Interior, Office of the Secretary, Office of Budget, Attn. Dionna Kiernan, 1849 C St. NW., MS 7413 MIB, Washington, DC 20240. Requests for additional information may also be emailed to dionna_kiernan@ios.doi.gov or faxed to (202) 219-2849. You may also review the information collection request online at http://www.reginfo.gov/public/do/PRAMain.

SUPPLEMENTARY INFORMATION:

I. Abstract

Public Law 97-258 (31 U.S.C. 6901-6907), as amended, the Payments in Lieu of Taxes (PILT) Act, was designed by Congress to help local governments recover some of the expenses they incur in providing services on public lands. These local governments receive funds under various Federal land payment programs such as the National Forest Revenue Act, the Mineral Lands Leasing Act, and the Taylor Grazing Act. PILT payments supplement the payments local governments receive under these other programs. The FY 2016 budget proposes a one-year extension of the current PILT program, maintaining the existing formula for calculating payments to counties. That proposal is currently pending before Congress. This renewal authority is being done in anticipation of reauthorization by Congress.

The PILT Act requires the Governor of each State to furnish the Department of the Interior with a listing of payments disbursed to local governments by the States on behalf of the Federal Government under 12 statutes described in Section 6903 of 31 U.S.C. The Department of the Interior uses the amounts reported by the States to reduce PILT payments to units of general local governments from that which they might otherwise receive. If such listings were not furnished by the Governor of each affected State, the Department would not be able to compute the PILT payments to units of general local government within the States in question.

In fiscal year 2004, administrative authority for the PILT program was transferred from the Bureau of Land Management to the Office of the Secretary of the Department of the Interior. Applicable DOI regulations pertaining to the PILT program to be administered by the Office of the Secretary were published as a final rule in the Federal Register on December 7, 2004 (69 FR 70557). The Office of Budget, Office of the Secretary is now planning to extend the information collection approval authority in order to enable the Department of the Interior to continue to comply with the PILT Act.

II. Data

(1) Title: Payments in Lieu of Taxes (PILT) Act, Statement of Federal Lands Payments, (43 CFR 44).

OMB Control Number: 1093-0005.

Current Expiration Date: 12/31/2015.

Type of Review: Extension without change of a currently approved collection.

Affected Entities: State Governments.

Estimated annual number of responses: 45.

Frequency of response: Annually.

Obligation to Respond: Required to obtain or retain a benefit.

(2) Annual reporting and record keeping burden.

Total Annual Reporting per Respondent: 46 hours.

Total Annual Burden Hours: 2,070 hours.

(3) Description of the need and use of the information: The statutorily required information is needed to compute payments due units of general local government under the PILT Act (31 U.S.C. 6901-6907). The Act requires the Governor of each State to furnish a statement as to amounts paid to units of general local government under 12 revenue-sharing statutes in the prior fiscal year. The FY 2016 budget proposes a one-year extension of the current PILT program, maintaining the existing formula for calculating payments to counties. That proposal is currently pending before Congress. This renewal authority is being done in anticipation of reauthorization by Congress.

(4) As required under 5 CFR 1320.8(d), a Federal Register notice soliciting comments on the information collection was published on August 12, 2015 (80 FR 48334). No comments were received. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

“Burden” means the total time, effort, or financial resources expended by persons to generate, maintain, retain, disclose, or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

It is our policy to make all comments available to the public for review. Before including Personally Identifiable Information (PII), such as your address, phone number, email address, or other personal information in your comment(s), you should be aware your entire comment (including PII) may be made available to the public at any time. While you may ask us in your comment to withhold PII from public view, we cannot guarantee we will be able to do so.

If you wish to view any comments received, you may do so by scheduling an appointment via the contact information provided in the ADDRESSES section. A valid picture identification is required for entry into the Department of the Interior, 1849 C Street NW., Washington, DC 20240.

An agency may not conduct or sponsor, and a person is not required to respond to, a collection of information unless it displays a currently valid Office of Management and Budget control number.

Dated: December 8, 2015.
Olivia B. Ferriter,
Deputy Assistant Secretary, Budget, Finance, Performance, and Acquisition.

[FR Doc. 2015-31446 Filed 12-14-15; 8:45 am]

BILLING CODE 4334-63-P